DEPARTMENT OF ENERGY

Biological and Environmental Research Advisory Committee

AGENCY: Department of Energy; Office of Science.

ACTION: Notice of open meeting.

SUMMARY: This notice announces a meeting of the Biological and Environmental Research Advisory Committee. Federal Advisory Committee Act (Pub. L. No. 92-463, as amended) requires that public notice of these meetings be announced in the Federal Register.

DATES: Monday, May 19, 2008, 9 a.m. to 5:30 p.m.; and Tuesday, May 20, 2008, 9 a.m. to 12:30, E.D.T.

ADDRESSES: Hilton Hotel, 620 Perry Parkway, Gaithersburg, MD 20877.

FOR FURTHER INFORMATION CONTACT: Dr. David Thomassen (301-903-9817; david.thomassen@science.doe.gov) Designated Federal Officer, Biological and Environmental Research Advisory Committee, U.S. Department of Energy, Office of Science, Office of Biological and Environmental Research, SC-23/Germantown Building, 1000 Independence Avenue, SW., Washington, DC 20585-1290. The most current information concerning this meeting can be found on the Web site: http://www.science.doe.gov/ober/berac/announce.html.

SUPPLEMENTARY INFORMATION: Purpose of the Meeting: To provide advice on a continuing basis to the Director, Office of Science of the Department of Energy, on the many complex scientific and technical issues that arise in the development and implementation of the Biological and Environmental Research Program.

Tentative Agenda

• Report on the Environmental Remediation Sciences Division Committee of Visitors.

• Report on the Low Dose Radiation Research Program BERAC Review.

• Science Talk.

• Update on BER Program for Ecosystems Research.

• Workshop Report—Next Generation of Climatic Change Ecosystem Experiments After the FACE Studies, Follow-on to October 2006, BERAC Report.

• Genomics: GTL Data Sharing Policy.

• Update on Joint ASCAC-BERAC GTL Charge

• Report on BER Carbon Cycling and Carbon Sequestration Workshop

• Comments and Discussion, Anna Palmisano, Associate Director of Science for Biological and Environmental Research.

• News from the Life and Medical Sciences, Climate Change Research, and Environmental Remediation Sciences Divisions.

• New business.

• Public Comment.

Public Participation: The day and a half meeting is open to the public. If you would like to file a written statement with the Committee, you may do so either before or after the meeting. If you would like to make oral statements regarding any of the items on the agenda, you should contact David Thomassen at the address or telephone number listed above. You must make your request for an oral statement at least five business days before the meeting. Reasonable provision will be made to include the scheduled oral statements on the agenda. The Chairperson of the Committee will conduct the meeting to facilitate the orderly conduct of business. Public comment will follow the 10-minute rule.

Minutes: The minutes of this meeting will be available for public review and copying within 45 days at the BERAC Web site: http://www.science.doe.gov/ober/berac/Minutes.html.

Issued in Washington, DC on April 22, 2008.
Rachel M. Samuel,
Deputy Committee Management Officer.

[FR Doc. E8-9082 Filed 4-24-08; 8:45 am]

BILLING CODE 6450-01-P